DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Genesis Worldwide Logistics

[Waiver Petition Docket Number FRA-2010-0008]

The Genesis Worldwide Logistics (GWWL) has petitioned FRA for a waiver of compliance from the requirements of 49 CFR 223.11, “Safety Glazing Standards for Locomotives,” and 49 CFR 231.30, “Locomotives used in Switching Service.” GWWL is in the business of providing in-plant switching services for a warehousing and packaging distribution business located in Houston, Texas. The efficiency and safety of their in-plant operation is dependent on their use of the “Stewart-Stevenson SS-4650 RailKing.” GWWL reports that this is a most technologically up-to-date self-propelled vehicle designed for the movement of rail cars. The switching and interchange operations of GWWL are limited to movement on tracks at speeds of less than 10 mph on “other-than-main-track” and on their own leased track from the Union Pacific. The approval of this request would allow for “compliant use” of the SS4650 RailKing for these operations.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0008) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on February 22, 2010.
Grady C. Cothen, Jr.,
Deputy Associate Administrator for Safety Standards and Program Development.

[FR Doc. 2010-3949 Filed 2-25-10; 8:45 am]

BILLING CODE 4910-06-P